DEPARTMENT OF LABOR

Office of the Secretary

Senior Executive Service; Appointment of Members to the Performance Review Board

Title 5 U.S.C. 4314(c)(4) provides that Notice of the appointment of an individual to serve as a member of the Performance Review Board of the Senior Executive Service shall be published in the Federal Register.

The following individuals are hereby appointed to a three-year term on the Department's Performance Review Board: D. Cameron Findlay, Chairperson, James Benages, David Dye, Robert Elam, Richard Fiore, Joe Kennedy, Patrick Pizzella, Paula White.

FOR FURTHER INFORMATION CONTACT: Ms. Tali R. Stepp, Director of Human Resources, Room C-5526, U.S. Department of Labor, Frances Perkins Building, 200 Constitution Avenue, N.W., Washington, D.C. 20210, telephone: (202) 693-7600.

Signed at Washington, D.C., this 13th day of August, 2001.
Elaine L. Chao,
Secretary of Labor.

[FR Doc. 01-20923 Filed 8-17-01; 8:45 am]

BILLING CODE 4510-23-M